DEPARTMENT OF COMMERCE

National Oceanic and Atmospheric Administration

RIN 0648-XG679

South Atlantic Fishery Management Council; Public Meetings

AGENCY: National Marine Fisheries Service (NMFS), National Oceanic and Atmospheric Administration (NOAA), Commerce.

ACTION: Notice of a meeting of the South Atlantic Fishery Management Council's (Council) System Management Plan Workgroup via webinar.

SUMMARY: The Council will hold a meeting of its System Management Plan (SMP) Workgroup via webinar.

DATES: The SMP Workgroup will meet via webinar from 1:30 p.m. until 3:30 p.m. on January 14, 2019.

ADDRESSES: The meeting will be held via webinar. The meeting is accessible to the public via webinar. Registration is required. Information regarding registration and other meeting information will be posted to the Council's website at: http://safmc.net/safmc-meetings/ as it becomes available.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The SMP Workgroup is an advisory group for the Council that reviews actions items, evaluates protected areas, and reviews management of protected areas recommended by the Council. The SMP Workgroup was formed in March 2018. The Workgroup will hold a series of meetings to discuss components of the System Management Plans created by the Council. The Workgroup is responsible for development of a report to the Council with recommendations.

During this meeting the SMP Workgroup will review writing assignments for each section of the report including: background information on managed areas; biological and habitat monitoring; socio-economic factors; enforcement and compliance; and outreach.

Special Accommodations

These meetings are physically accessible to people with disabilities. Requests for auxiliary aids should be directed to the Council office (see ADDRESSES) 5 days prior to the public meeting.

Note: The times and sequence specified in this agenda are subject to change.

Authority: 16 U.S.C. 1801 et seq.

Dated: December 19, 2018.
Tracey L. Thompson,
Acting Deputy Director, Office of Sustainable Fisheries, National Marine Fisheries Service.

[FR Doc. 2018-27838 Filed 12-21-18; 8:45 am]

BILLING CODE 3510-22-P